DEPARTMENT OF THE INTERIOR

Bureau of Reclamation

Kennewick and Columbia Irrigation Districts Pump Exchange Feasibility Study, Washington

AGENCY: Bureau of Reclamation, Interior.

ACTION: Notice of intent to prepare an Environmental Impact Statement and to conduct public scoping meetings.

SUMMARY: Pursuant to section 102(2)(C) of the National Environmental Policy Act (NEPA) of 1969, as amended, the Bureau of Reclamation (Reclamation) intends to prepare an Environmental Impact Statement (EIS) on the Kennewick and Columbia Irrigation Districts Pump Exchange Feasibility Study, Washington. The purpose of this project is to evaluate opportunities to increase and improve streamflows in the lower Yakima River between the Prosser Diversion Dam and the mouth of the Yakima River during the irrigation season by investigating a water exchange project in the lower portion of the Yakima River or the electrification of the Chandler hydraulic pumps. Alteration of current conditions in this reach could improve spawning and rearing habitat and migration conditions for anadromous fish. Alternatives being considered are partial or full Yakima-Columbia River water exchange, or electrification of the Chandler Pumping Plant. Reclamation is requesting early public comment and agency input to help identify significant issues or other alternatives to be addressed in the EIS.

DATES: Scoping meetings will be held on the following dates and times:

• Kennewick, WA: May 1, 2002, Open Houses 12 pm to 1 pm and 6 pm to 7 pm; Meetings 1 to 3 pm and 7 pm to 9 pm.

Written comments will be accepted through June 3, 2002, for inclusion in the scoping summary document.

The meeting facilities are physically accessible to people with disabilities. Please direct requests for sign language interpretation for the hearing impaired, or other auxiliary aids, to David Kaumheimer by April 17, 2002, at the telephone, fax or TTY relay numbers listed under the FOR FURTHER INFORMATION section of this notice.

ADDRESSES: Comments and requests to be added to the mailing list may be submitted to Bureau of Reclamation, Upper Columbia Area Office, Attention: David Kaumheimer, Environmental Programs Manager, 1917 Marsh Road, Yakima, Washington 98907-1749.

The scoping meetings will be held at the following location:

• West Coast Hotel Kennewick, North 1101 Columbia Center Blvd, Kennewick, WA, 99336.

FOR FURTHER INFORMATION CONTACT: David Kaumheimer, Environmental Programs Manager, (509) 575-5848, extension 232, or fax: (509) 454-5611. TTY users may call (509) 575-5848 by dialing 711 to obtain a toll free TTY relay.

SUPPLEMENTARY INFORMATION:

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Background

Reclamation has undertaken this study as one potential means to augment instream flow in the lower Yakima River and benefit anadromous fish under the authority of Title XII, Phase 2 of the Yakima River Basin Water Enhancement Project, in Public Law 103-434 (Title XII), which was passed by the Congress on October 31, 1994. Public Law 106-372, which amended Title XII, authorized an engineering feasibility report of the Chandler Pump Exchange, as well as electrifying the pumps at the Chandler Pumping Plant at Prosser Diversion Dam, Washington. Alternatives being considered include either a partial or full Yakima-Columbia River water exchange, or the electrification of the Chandler Pumping Plant.

Water exchange would entail pumping water from the Columbia River near the mouth of the Yakima River into the Kennewick Irrigation District (KID) and Columbia Irrigation District (CID) canals and reducing the amount of water diverted from the Yakima River at the current points of diversion. One of the alternatives being considered is a partial exchange of KID's full Yakima River diversion. It would involve diverting about ⅔ of KID's total 333 cfs diversion from the Columbia River and continuing to divert the remainder at Prosser Dam on the Yakima River. Another alternative is a full exchange which would totally eliminate the diversion of water from the Yakima River to the KID canal. Both alternatives would involve pumping approximately 116 cfs of CID's total existing Yakima River diversion from the Columbia River.

The alternative of electrification of the Chandler Pumping Plant would involve replacing the existing hydraulic pumps in the pumping plant with electric pumps to pump Yakima River water into KID's main canal at the current point of diversion. The Chandler Pumping Plant is located at the end of the Chandler Canal into which water is diverted at Prosser Dam. Replacing the hydraulic pumps with electric pumps would eliminate the need to divert water at Prosser Dam to drive the hydraulic pumps leaving up to 450 cfs in the 11 mile reach of the Yakima River from Prosser Dam to the Chandler Pumping Plant. No exchange with CID would take place under this alternative.

Public Involvement

Reclamation plans to conduct public scoping meetings to solicit input on the alternatives developed to address stream flows in the lower Yakima River between Prosser Dam and the mouth of the river, and impacts associated with those alternatives. Reclamation will summarize comments received during the scoping meetings and written comments received during the scoping period, identified under DATES, into a scoping summary document which will be made available to the public.

Dated: March 21, 2002.
Kenneth R. Pedde,
Acting Regional Director, Pacific Northwest Region.

[FR Doc. 02-10524 Filed 4-29-02; 8:45 am]

BILLING CODE 4310-MN-M